DEPARTMENT OF COMMERCE

International Trade Administration

A-570-888

Floor-Standing, Metal-Top Ironing Tables and Certain Parts Thereof from the People's Republic of China: Final Results of Antidumping Duty Administrative Review

AGENCY: Import Administration, International Trade Administration, Department of Commerce.

SUMMARY: On September 11, 2007, the U.S. Department of Commerce (“the Department”) published the preliminary results of the second administrative review of the antidumping duty order on ironing tables from the People's Republic of China (“PRC”). See Floor-Standing, Metal-Top Ironing Tables and Certain Parts Thereof from the People's Republic of China: Preliminary Results of Antidumping Duty Administrative Review, 72 FR 51781 (September 11, 2007) (“AR2 Preliminary Results”). This review covers exports from Since Hardware (Guangzhou) Co., Ltd. (“Since Hardware”). The period of review (“POR”) is August 1, 2005, through July 31, 2006. For these final results, the Department revised and continued to apply the Since Hardware supplier price benchmark analysis. Furthermore, the Department revised its calculation of the surrogate financial ratios. Therefore, the final results differ from the preliminary results. See “Final Results of Review” section below.

EFFECTIVE DATE: March 18, 2008.

FOR FURTHER INFORMATION CONTACT: Bobby Wong or Michael Quigley, AD/CVD Operations, Office 9, Import Administration, International Trade Administration, U.S. Department of Commerce, 14th Street and Constitution Avenue, NW, Washington, DC 20230; telephone: (202) 482-0409 or (202) 482-4047, respectively.

SUPPLEMENTARY INFORMATION:

Background

We published in the Federal Register the preliminary results of the second administrative review on September 11, 2007. See AR2 Preliminary Results.

Following the AR2 Preliminary Results, on October 1, 2007, Since Hardware submitted surrogate financial information to value factors of production. On October 11, 2007, Home Products International Inc. (“petitioner”) and Since Hardware submitted case briefs. On October 16, 2007, both petitioner and Since Hardware also submitted rebuttal briefs.

Scope of the Order

For purposes of this order, the product covered consists of floor-standing, metal-top ironing tables, assembled or unassembled, complete or incomplete, and certain parts thereof. The subject tables are designed and used principally for the hand ironing or pressing of garments or other articles of fabric. The subject tables have full-height leg assemblies that support the ironing surface at an appropriate (often adjustable) height above the floor. The subject tables are produced in a variety of leg finishes, such as painted, plated, or matte, and they are available with various features, including iron rests, linen racks, and others. The subject ironing tables may be sold with or without a pad and/or cover. All types and configurations of floor-standing, metal-top ironing tables are covered by this review.

Furthermore, this order specifically covers imports of ironing tables, assembled or unassembled, complete or incomplete, and certain parts thereof. For purposes of this order, the term “unassembled” ironing table means a product requiring the attachment of the leg assembly to the top or the attachment of an included feature such as an iron rest or linen rack. The term “complete” ironing table means product sold as a ready-to-use ensemble consisting of the metal-top table and a pad and cover, with or without additional features, e.g. iron rest or linen rack. The term “incomplete” ironing table means product shipped or sold as a “bare board” i.e., a metal-top table only, without the pad and cover with or without additional features, e.g. iron rest or linen rack. The major parts or components of ironing tables that are intended to be covered by this order under the term “certain parts thereof” consist of the metal top component (with or without assembled supports and slides) and/or the leg components, whether or not attached together as a leg assembly. The order covers separately shipped metal top components and leg components, without regard to whether the respective quantities would yield an exact quantity of assembled ironing tables.

Ironing tables without legs (such as models that mount on walls or over doors) are not floor-standing and are specifically excluded. Additionally, tabletop or countertop models with short legs that do not exceed 12 inches in length (and which may or may not collapse or retract) are specifically excluded.

The subject ironing tables were previously classified under Harmonized Tariff Schedule of the United States (“HTSUS”) subheading 9403.20.0010. Effective July 1, 2003, the subject ironing tables are classified under new HTSUS subheading 9403.20.0011. The subject metal top and leg components are classified under HTSUS subheading 9403.90.8040. Although the HTSUS subheadings are provided for convenience and for Customs and Border Protection (“CBP”) purposes, the Department's written description of the scope remains dispositive.

Separate Rates

Since Hardware requested a separate, company-specific antidumping duty rate. In the AR2 Preliminary Results, we found that Since Hardware had met the criteria for the application of a separate antidumping duty rate. Preliminary Results, 72 FR at 51782.

We have not received any information since the Preliminary Results with respect to Since Hardware that would warrant reconsideration of our separate-rates determination. Therefore, we have assigned an individual dumping margin to Since Hardware for this review period.

Analysis of Comments Received

All issues raised in the briefs are addressed in the Memorandum to David M. Spooner, Assistant Secretary for Import Administration, from Stephen J. Claeys, Deputy Assistant Secretary for Import Administration, regarding the Issues and Decision Memorandum accompanying the Final Results in the 2005-2006 Administrative Review of Floor-Standing, Metal-Top Ironing Tables and Certain Parts Thereof from the People's Republic of China, (February 10, 2008) (“I&D Memorandum”), which is hereby adopted by this notice. A list of the issues raised, all of which are in the Issues and Decision Memorandum, is attached to this notice as Appendix I. Parties can find a complete discussion of all issues raised in the briefs and the corresponding recommendations in this public memorandum, which is on file in the Central Records Unit (“CRU”), room 1117 of the Department of Commerce. In addition, a complete version of the Issues and Decision Memorandum can be accessed directly on the Web at http://trade.gov/ia. The paper copy and electronic version of the Issues and Decision Memorandum are identical in content.

Changes since the Preliminary Results

Based on the comments received from interested parties, we have made company-specific changes to certain surrogate value calculations that affect the margin calculations for Since Hardware as discussed below.

1) Benchmark Methodology:

For these final results, the Department has determined to apply the benchmark analysis consistent with the methodology applied in the preliminary results. However, for the Preliminary Results, the Department inadvertently failed to remove export sales into NME countries from the benchmark analysis. Therefore, for these final results, the Department corrected this inadvertent error and revised the benchmark analysis to exclude export sales into NME countries from the analysis. This is consistent with the Department's recent practice. See Oil Country Tubular Goods (“OCTG”), Other Than Drill Pipe, from Korea: Final Results of Antidumping Duty Administrative Review, 71 FR 13091 and accompanying Issues and Decision Memorandum at Comment “Issue: The use of China, a non-market economy, as the basis for normal value” (March 14, 2006). See also, Husteel Company, Ltd. v. United States, CIT Court No. 06-00075 (where the Department is currently defending this position before the CIT). For a more detailed discussion, see the Issues and Decision Memorandum at Comment 3; and the March 10, 2008, Memorandum to the File; From Blaine Wiltse, International Trade Compliance Analyst and Bobby Wong, Senior International Trade Complaince Analyst; Regarding Second Antidumping Administrative Review of Floor-standing, Metal-top Ironing Tables and Certain Parts Thereof from the People's Republic of China: Since Hardware (Guangzhou) Co., Ltd. (“Since Hardware”) Analysis Memorandum for the Final Results, accompanying these final results.

2) Carriage Inward:

For these final results, consistent the Department's practice in recent reviews, the Department has included Infiniti Modules freight-in expenses in the calculation of the denominator used to determine Since Hardware's surrogate financial ratios. See Folding Metal Tables and Chairs from the People's Republic of China: Final Results of Antidumping Duty Administrative Review, 72 FR 71355 (December 18, 2007) (“Tables & Chairs Final”). For a more detailed discussion, see, Comment 2 of the Issues and Decision Memorandum accompanying these final results.

3) Plywood:

In the preliminary results of the instant review, the Department inadvertently applied the incorrect harmonized tariff schedule code to value plywood. For these final results, the Department has corrected this clerical error (for further detail). See Comment 4 of the Issues and Decision Memorandum accompanying these final results.

Final Results of Review

We preliminarily determine that the following antidumping duty margins exist:

Exporter | Margin (percent)
Since Hardware (Guangzhou) Co., Ltd. | 0.34 % (de minimis)

For details on the calculation of the antidumping duty weighted-average margin for each company, see See March 10, 2008, Memorandum to the File; From Blaine Wiltse, International Trade Compliance Analyst and Bobby Wong, Senior International Trade Compliance Analyst; Regarding Second Antidumping Administrative Review of Floor-standing, Metal-top Ironing Tables and Certain Parts Thereof from the People's Republic of China: Since Hardware (Guangzhou) Co., Ltd. (“Since Hardware”) Analysis Memorandum for the Final Results. The public version of this memorandum is on file in the CRU.

Assessment Rates

Pursuant to section 751(a)(2)(A) of the Tariff Act of 1930, as amended (“the Act”) and 19 CFR 351.212(b), the Department will determine, and CBP shall assess, antidumping duties on all appropriate entries. The Department intends to issue assessment instructions to CBP 15 days after the date of publication of these final results of review. For assessment purposes, where possible, we calculated importer-specific assessment rates for subject ironing tables from the PRC via ad valorem duty assessment rates based on the ratio of the total amount of the dumping margins calculated for the examined sales to the total entered value of those same sales. We will instruct CBP to assess antidumping duties on all appropriate entries covered by this review.

Cash Deposit Requirements

The following cash deposit requirements will be effective upon publication of these final results of this administrative review for all shipments of the subject merchandise entered, or withdrawn from warehouse, for consumption on or after the publication date, as provided for by section 751(a)(2)(C) of the Act: (1) for Since Hardware, the Department has calculated a de minimis margin for these final results, and therefore no cash deposit will be required for this company; (2) for previously investigated or reviewed PRC and non-PRC exporters not listed above that have separate rates, the cash deposit rate will continue to be the exporter-specific rate published for the most recent period; (3) for all PRC exporters of subject merchandise that have not been found to be entitled to a separate rate, including those companies for which this review has been rescinded, the cash deposit rate will be the PRC-wide rate of 157.68 percent; and (4) for all non-PRC exporters of subject merchandise which have not received their own rate, the cash deposit rate will be the rate applicable to the PRC exporters that supplied that non-PRC exporter. These deposit requirements, when imposed, shall remain in effect until further notice.

Notification to Interested Parties

This notice also serves as the final reminder to importers of their responsibility under 19 CFR 351.402(f) to file a certificate regarding the reimbursement of antidumping duties prior to liquidation of the relevant entries during this review period. Failure to comply with this requirement could result in the Secretary's presumption that reimbursement of antidumping duties occurred and in the subsequent assessment of double antidumping duties.

This notice also serves as the only reminder to parties subject to administrative protective order (APO) of their responsibility concerning the return/destruction or conversion to judicial protective order of proprietary information disclosed under APO in accordance with 19 CFR 351.305(a)(3). Failure to comply is a violation of the APO.

This administrative review and this notice are published in accordance with sections 751(a)(1) and 777(i)(1) of the Act.

Dated: March 10, 2008.
David M. Spooner,
Assistant Secretary for Import Administration.

[FR Doc. E8-5415 Filed 3-17-08; 8:45 am]

BILLING CODE 3510-DS-S